DEPARTMENT OF HEALTH AND HUMAN SERVICES

National Institutes of Health

Center for Scientific Review; Amended Notice of Meeting

Notice is hereby given of a change in the meeting of the Center for Scientific Review Special Emphasis Panel, August 20, 2001, 2 PM to August 20, 2001, 3 PM, NIH, Rockledge 2, Bethesda, MD, 20892 which was published in the Federal Register on August 13, 2001, 66 FR 42553.

The meeting has been changed to August 21, 2001, from 12 PM to 1 PM. The location remains the same. The meeting is closed to the public.

Dated: August 17, 2001.
LaVerne Y. Stringfield,
Director, Office of Federal Advisory Committee Policy.

[FR Doc. 01-21517 Filed 8-24-01; 8:45 am]

BILLING CODE 4140-01-M